DEPARTMENT OF THE INTERIOR

National Park Service

National Park Service Benefits-Sharing Final Environmental Impact Statement

AGENCY: National Park Service, Department of the Interior.

ACTION: Notice of Availability of the Servicewide Benefits-Sharing Final Environmental Impact Statement.

SUMMARY: Pursuant to the National Environmental Policy Act of 1969, 42 U.S.C. 4332(2)(C), the National Park Service announces the availability of the Benefits-Sharing Final Environmental Impact Statement (FEIS) covering all units of the National Park System. The NPS requested and considered comments from sources including the public and other agencies in completing the FEIS. Three alternatives were evaluated in the FEIS, each of which would clarify the rights and responsibilities of researchers and National Park Service (NPS) management in connection with the use of valuable discoveries, inventions, and other developments that result from research involving specimens lawfully collected from units of the National Park System. The No Action Alternative allows scientists to conduct research that may lead to commercial products but without any obligation to share the benefits with NPS. Another alternative prohibits scientific research in national parks that is in any way associated with the development of commercial products. A third alternative, the Environmentally Preferred Alternative, requires researchers who study material obtained under a Scientific Research and Collecting Permit to enter into benefits-sharing agreements with the NPS before using their research results for any commercial purpose. This Environmentally Preferred Alternative has three potential variations regarding the disclosure of royalty rate or related information: Always disclose, never disclose, or comply with confidentiality laws regarding disclosure. The Preferred Alternative implements the benefits-sharing agreement requirement, while complying with confidentiality laws regarding disclosure of royalty rate or related information.

DATES: The National Park Service will execute a Record of Decision (ROD) no sooner than 30 days following publication by the Environmental Protection Agency of the Notice of Availability of the Final Environmental Impact Statement.

ADDRESSES: Information will be available for public inspection online at http://parkplanning.nps.gov (select “Washington Office” from the park menu and then follow the link for benefits-sharing), in the office of the National Park Service Associate Director for Natural Resource Stewardship and Science, 1849 C Street, NW., Washington, DC, and in the office of the Superintendent, Yellowstone National Park, Wyoming.

FOR FURTHER INFORMATION CONTACT: Susan Mills, Benefits-Sharing EIS, Center for Resources, P.O. Box 168, Yellowstone National Park, Wyoming 82190, (307) 344-2203, benefitseis@nps.gov.

Dated: October 5, 2009.
Daniel N. Wenk,
Deputy Director, National Park Service.

[FR Doc. E9-28039 Filed 11-20-09; 8:45 am]

BILLING CODE 4312-CT-P